DEPARTMENT OF ENERGY

Federal Energy Regulatory Commission

[Project No. 2997-031]

South Sutter Water District; Notice of Material Amendment of License Application, Soliciting Comments and Associated Study Requests

On July 1, 2019, South Sutter Water District (SSWD) filed, pursuant to sections 4(e) and 15 of the Federal Power Act, an application for a new major license to continue operating the Camp Far West Hydroelectric Project No. 2997 (Camp Far West Project) located on the Bear River in Yuba, Nevada, and Placer Counties, California. On July 8, 2019, Commission staff issued a Notice of Application Tendered for Filing with the Commission and Establishing Procedural Schedule for Licensing and Deadline for Submission of Final Amendments. On March 16, 2021, Commission staff issued a Notice of Application Ready for Environmental Analysis and Soliciting Comments, Recommendations, Terms and Conditions, and Prescriptions. On December 28, 2023, SSWD filed an amendment to the license application.

The Camp Far West Project currently occupies about 2,864 acres. No federal or tribal lands occur within or adjacent to the project boundary or along the Bear River downstream of the project. The project operates to primarily provide water during the irrigation season, generate power, and meet streamflow requirements for the Bear River.

Existing project facilities include: (1) a 185-foot-high, 40-foot-wide, 2,070-foot-long, zoned, earth-filled main dam; (2) a 45-foot-high, 20-foot-wide, 1,060-foot-long, earth-filled south wing dam; (3) a 25-foot-high, 20-foot-wide, 1,460-foot-long earth-filled north wing dam; (4) a 15-foot-high, 20-foot-wide, 1,450-foot-long earth-filled dike; (5) a 1,886-acre reservoir with a gross storage capacity of about 93,737 acre-feet at the normal maximum water surface elevation (maximum water elevation) of 300 feet (NGVD 29); (6) an overflow spillway with a 15-foot-wide concrete approach apron, 300-foot-long ungated, ogee-type concrete structure, and a 77-foot-long downstream concrete chute with concrete sidewalls; (7) a 1,200-foot-long unlined rock channel that carries spill downstream to the Bear River; (8) a 22-foot-high concrete power intake tower with openings on three sides protected by steel trashracks; (9) a 760-foot-long, 8-foot-diameter concrete tunnel through the left abutment of the main dam that conveys water from the power intake to the powerhouse; (10) a steel-reinforced concrete powerhouse with a 6.8-megawatt vertical-shaft Francis-type turbine that discharges into the Bear River at the base of the main dam; (11) a 25.3-foot-high concrete vertical intake tower with openings on three sides protected by steel trashracks that receives water for the outlet works; (12) a 350-foot-long, 48-inch-diameter steel pipe that conveys water from the intake structure to a valve chamber for the outlet works; (13) a 400-foot-long, 7.5-foot-diameter concrete-lined horseshoe tunnel that connects to the valve chamber; (14) a 48-inch-diameter outlet valve with a 500-cubic-feet-per-second release capacity at maximum water elevation on the downstream face of the main dam that discharges directly into the Bear River; (15) a switchyard adjacent to the powerhouse; (16) two recreation areas with campgrounds, day-use areas, boat ramps, restrooms, and sewage holding ponds; and (17) a recreational water system that includes two pumps in the reservoir that deliver water to a treatment facility that is piped to a 60,000-gallon storage tank to supply water to recreation facilities. The estimated average annual generation (2010 to 2017) is 22,637 megawatt-hours.

In its amended license application, SSWD proposes to: (1) raise the maximum water elevation of the project reservoir from 300 feet to 304.8 feet; (2) replace and restore several recreation facilities; (3) add an existing 0.25-mile road as a primary project road to access the project powerhouse and switchyard; and (4) modify the project boundary to account for (a) the removal of the 1.9-mile-long transmission line from the license in 1991, (b) corrections based on current project operation and maintenance, and (c) changes to project facilities.

Additionally, to accommodate passage of the revised probable maximum flood (recalculated in 2005) and avoid overtopping the project dam, SSWD proposes to: (1) raise the crest of the existing spillway from an elevation of 300 feet to 304.8 feet; (2) construct a new reinforced-concrete secondary spillway consisting of an approximately 305-foot-long ungated ogee-type concrete structure and an unlined 300-foot-wide (at minimum) spillway inlet channel within the reservoir; (3) construct an 805-foot-long unlined rock channel that carries spill downstream to the existing overflow spillway channel; (4) construct a new 300-foot-long, paved bridge constructed of concrete girders with side concrete barriers and guardrails for vehicles to drive over the dam and along Blackford Road; (5) grade and raise the existing Blackford Road to accommodate the approach to the new bridge; and (6) relocate an existing powerline segment (non-project) to accommodate the new secondary spillway in coordination with Pacific Gas and Electric Company.

Pursuant to 18 CFR 4.35(f)(1)(ii)(A), the license application as amended constitutes a material amendment. Due to the material amendment, the application is no longer ready for environmental analysis at this time. With this notice, we are soliciting comments on SSWD's amended application as well as study requests. The deadline for filing comments and study requests is 60 days from the issuance date of this notice.

The Commission strongly encourages electronic filing. Please file comments and study requests using the Commission's eFiling system at http://www.ferc.gov/docs-filing/efiling.asp. Commenters can submit brief comments up to 6,000 characters, without prior registration, using the Comment system at https://ferconline.ferc.gov/Quick.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Debbie-Anne Reese, Acting Secretary, Federal Energy Regulatory Commission, 12225 Wilkins Avenue, Rockville, Maryland 20852. The first page of any filing should include docket number P-2997-031.

Copies of the application may be viewed on the Commission's website at http://www.ferc.gov using the “eLibrary” link. Enter the docket number excluding the last three digits in the docket number field to access the document. For assistance, contact FERC at FERCOnlineSupport@ferc.gov or call toll-free, (866) 208-3676 or (202) 502-8659 (TTY). You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Applicant Contact: Hayden Cornwell, General Manager, South Sutter Water District, 2464 Pacific Avenue, Trowbridge, California 95659; Phone: (530) 656-2242; Email: hcornwell@southsutterwd.com.

FERC Contact: Quinn Emmering, the Commission's project coordinator for relicensing the Camp Far West Project, at (202) 502-6382 or Quinn.Emmering@ferc.gov.

The amended application will be processed according to the following preliminary schedule. Revisions to the schedule will be made as appropriate.

Milestone | Target date
FERC Issues Acceptance or Deficiency Letter (if necessary) | March 2024.
FERC Requests Additional Information (if necessary) | March 2024.
FERC Issues Notice that Application is Ready for Environmental Analysis | June 2024.

Dated: January 10, 2024.
Debbie-Anne A. Reese,
Acting Secretary.

[FR Doc. 2024-00768 Filed 1-16-24; 8:45 am]

BILLING CODE 6717-01-P